DEPARTMENT OF THE TREASURY

Submission for OMB Review; Comment Request

October 12, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 18, 2004 to be assured of consideration.

Internal Revenue Service (IRS)

OMB Number: 1545-1010.

Form Number: IRS Form 1120-RIC.

Type of Review: Revision.

Title: U.S. Income Tax Return for Regulated Investment Companies.

Description: Form 1120-RIC is filed by a domestic corporation electing to be taxed as a RIC in order to report its income and deductions and to compute its tax liability. IRS uses form 1120-RIC to determine whether the RIC has correctly reported its income, deductions, and tax liability.

Respondents: Business or other for-profit.

Estimated Number of Respondents/Recordkeepers: 3,277.

Estimated Burden Hours Respondent/Recordkeeper:

Recordkeeping—57 hr., 9 min.

Learning about the law or the form—20 hr., 43 min.

Preparing the form—36 hr., 30 min.

Copying, assembling, and sending the form to the IRS—4 hr., 1 min.

Frequency of response: Annually.

Estimated Total Reporting/Recordkeeping Burden: 380,325 hours.

Clearance Officer: Paul H. Finger (202) 622-4078, Internal Revenue Service, Room 6516, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 04-23358 Filed 10-18-04; 8:45 am]

BILLING CODE 4830-01-P